FEDERAL COMMUNICATIONS COMMISSION

47 CFR Part 64

[CC Docket No. 98-170; FCC 99-72]

Truth-in-Billing and Billing Format

AGENCY: Federal Communications Commission.

ACTION: Final rule; correction.

SUMMARY: On October 18, 1999 (64 FR 56177), the Commission published a document correcting a final rule that was published on June 25, 1999 (64 FR 34488). This document corrects the subpart for that rule.

DATES: Effective June 9, 2000.

FOR FURTHER INFORMATION CONTACT: Michele Walters, Attorney, Common Carrier Bureau, Accounting Policy Division, (202) 418-7400.

SUPPLEMENTARY INFORMATION: The Federal Communications Commission published a document revising part 64 of the Commission's rules in the Federal Register on June 25, 1999, (64 FR 34488). On October 18, 1999, the Commission published a document in the Federal Register correcting typographical errors. See 64 FR 56177 (October 18, 1999). This document corrects the Federal Register, FR Doc. 99-26884, published October 18, 1999, 64 FR 56177, by revising “Subpart U” to read “Subpart Y.”

In the rule changes, page 56177, in the second column, “Subpart W” is corrected to read “Subpart Y.”

Federal Communications Commission.
Magalie Roman Salas,
Secretary.

[FR Doc. 00-14537 Filed 6-8-00; 8:45 am]

BILLING CODE 6712-01-U